CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed new collection request for a Field Assessment for Understanding the Involvement of Veterans and Military Families in National Service. The Field Assessment will include interviews with Corporation-funded programs and projects that involve veterans and military family members as national service participants or service beneficiaries. Through the interviews, the Corporation will collect detailed information on the models and strategies that national service programs and projects have developed and implemented to engage and serve veterans and military families. The aim of the study is to begin to build evidence of impact and isolate the unique value that national service brings to meeting the needs of these populations. Selection will be limited to those programs and projects that have shown significant and/or strategic efforts to involve veterans and military families. Participation in the information collection is voluntary and will not be used in grant funding decisions.

Copies of the information collection request can be obtained by contacting the office listed in the addresses section of this notice.

DATES: Written comments must be submitted to the individual and office listed in the ADDRESSES section by May 29, 2012.

ADDRESSES: You may submit comments, identified by the title of the information collection activity, by any of the following methods:

(1) By mail sent to: Corporation for National and Community Service, Office of Strategy and Special Initiatives; Attention LaMonica Shelton, Associate Director for Policy and Communications, 401 W. Peach Street NW., Suite 1600, Atlanta, GA, 30308.

(2) By hand delivery or by courier at the mail address given in paragraph (1) above, between 9 a.m. and 4 p.m. Eastern Time, Monday through Friday, except Federal holidays.

(3) By fax to: (404) 331-2898, Attention: LaMonica Shelton, Associate Director for Policy and Communications.

(4) Electronically through the Corporation's email address system: kspring@cns.gov. Individuals who use a telecommunications device for the deaf (TTY-TDD) may call 1-800-833-3722 between 8 a.m. and 8 p.m. Eastern Time, Monday through Friday.

FOR FURTHER INFORMATION CONTACT: Kimberly Spring, (202) 606-6629, or by email at kspring@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Data collection for the Field Assessment for Understanding the Involvement of Veterans and Military Families in National Service will involve telephone interviews with Corporation-funded programs and projects that engage or serve veterans and military family members. Through the interviews, the Corporation will be able to collect information on the experiences and demonstrated successes in using national service to involve and meet the needs of veterans and military families.

Current Action

This is a new information collection request.

Type of Review: New.

Agency: Corporation for National and Community Service.

Title: Field Assessment for Understanding the Involvement of Veterans and Military Families in National Service.

OMB Number: None.

Agency Number: None.

Affected Public: Non-profit organizations and state, city/local, and tribal government agency staff.

Total Respondents: 100.

Frequency: Once.

Average Time Per Response: Averages 50 minutes.

Estimated Total Burden Hours: 83.3 hours.

Total Burden Cost (capital/startup): None.

Total Burden Cost (operating/maintenance): None.

Comments submitted in response to this notice will be summarized and/or included in the request for Office of Management and Budget approval of the information collection request; they will also become a matter of public record.

Dated: March 26, 2012.
Nathan Dietz,
Associate Director of Research and Evaluation, Office of Strategy and Special Initiatives.

[FR Doc. 2012-7689 Filed 3-29-12; 8:45 am]

BILLING CODE 6050-$$-P